DEPARTMENT OF TRANSPORTATION

Federal Aviation Administration

14 CFR Parts 61, 63, 65 and 141

[Docket No.: FAA-2023-0825; Notice No. 23-06A]

RIN 2120-AL25

Removal of Expiration Date on a Flight Instructor Certificate; Additional Qualification Requirements To Train Initial Flight Instructor Applicants; and Other Provisions; Reopening of Comment Period

AGENCY: Federal Aviation Administration (FAA), Department of Transportation (DOT).

ACTION: Notice of proposed rulemaking (NPRM); reopening of comment period.

SUMMARY: This action reopens the comment period for the notice of proposed rulemaking (NPRM) published on May 23, 2023, titled “Removal of Expiration Date on a Flight Instructor Certificate; Additional Qualification Requirements To Train Initial Flight Instructor Applicants; and Other Provisions.” The proposed amendments would function to remove the expiration date from a flight instructor certificate, establish recent experience requirements, expand certain certificate reinstatement options for flight instructors, amend qualification requirements for flight instructors seeking to provide training to initial flight instructor applicants, and codify the requirements of a Special Federal Aviation Regulation. The FAA is reopening the comment period to allow commenters an additional opportunity to provide feedback on this proposed rule.

DATES: The comment period for the NPRM published on May 23, 2023, at 88 FR 32983, and closed on June 22, 2023, is reopened until December 1, 2023.

ADDRESSES: Send comments identified by docket number FAA-2023-0825 using any of the following methods:

• Federal eRulemaking Portal: Go to www.regulations.gov and follow the online instructions for sending your comments electronically.

• Mail: Send comments to Docket Operations, M-30; U.S. Department of Transportation (DOT), 1200 New Jersey Avenue SE, Room W12-140, West Building Ground Floor, Washington, DC 20590-0001.

• Hand Delivery or Courier: Take comments to Docket Operations in Room W12-140 of the West Building Ground Floor at 1200 New Jersey Avenue SE, Washington, DC, between 9 a.m. and 5 p.m., Monday through Friday, except Federal holidays.

• Fax: Fax comments to Docket Operations at (202) 493-2251.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FOR FURTHER INFORMATION CONTACT: Allan G. Kash, Training and Certification Group, Flight Standards Service, Federal Aviation Administration, 800 Independence Avenue SW, Washington, DC 20591; telephone (202) 267-1100; email allan.g.kash@faa.gov.

SUPPLEMENTARY INFORMATION:

A. Comments Invited

The FAA invites interested persons to participate in this rulemaking by submitting written comments, data, or views relating to the rulemaking. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

B. Confidential Business Information

Confidential Business Information (CBI) is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to the person listed under the FOR FURTHER INFORMATION CONTACT heading at the beginning of the preamble. Any commentary that the FAA receives which is not specifically designated as CBI will be placed in the public docket for this rulemaking.

C. Availability of Rulemaking Documents

An electronic copy of rulemaking documents may be obtained from the internet by—

1. Searching the Federal eRulemaking Portal at www.regulations.gov;

2. Visiting the FAA's Regulations and Policies web page at www.faa.gov/regulations_policies/; or

3. Accessing the Government Printing Office's web page at www.GovInfo.com.

Copies may also be obtained by sending a request to the Federal Aviation Administration, Office of Rulemaking, ARM-1, 800 Independence Avenue SW, Washington, DC 20591, or by calling (202) 267-9680. Commenters must identify the docket or notice number of this rulemaking.

All documents the FAA considered in developing this proposed rule, including economic analyses and technical reports, may be accessed from the internet through the Federal eRulemaking Portal referenced in item (1) above.

I. Background

On May 23, 2023, the FAA published an NPRM titled “Removal of Expiration Date on a Flight Instructor Certificate; Additional Qualification Requirements To Train Initial Flight Instructor Applicants; and Other Provisions,” in the Federal Register (88 FR 32983; Notice No. 23-06). The NPRM primarily proposed amendments to flight instructor certificate requirements in part 61. First, the FAA proposed to amend flight instructor certificate renewal requirements by changing the existing renewal requirements to recent experience requirements and adding a new method for persons to establish recent flight instructor experience. Additionally, the FAA proposed to allow a flight instructor whose recent experience lapsed by no more than three calendar months to reinstate flight instructor privileges by taking an approved flight instructor refresher course rather than completing a flight instructor certification practical test. Further, the FAA proposed to amend the qualification requirements for flight instructors seeking to provide training to initial flight instructor applicants by adding two new methods under which a flight instructor may become qualified to provide this training. Finally, the FAA proposed to relocate and codify Special Federal Aviation Regulation (SFAR) 100-2, Relief for U.S. Military and Civilian Personnel who are Assigned Outside the United States in Support of U.S. Armed Forces Operations into parts 61, 63, and 65.

Commenters were instructed to provide comments on or before June 22, 2023 (i.e., 30 days from the date of publication of the NPRM). However, during the original comment period, the FAA received a request to extend the comment period to provide additional time to the public to comment on the proposed rule.¹ Specifically, the comment proposed several recommendations in lieu of the proposed rulemaking. One such comment urged the FAA to convene a working group and consult with the flight training industry and, at a minimum, an extension of the comment period until after AirVenture 2023.²

¹ See comment from William Edwards, Docket No. FAA-2023-0825-0132.

² The Experimental Aircraft Association's AirVenture Oshkosh Air Show was held from July 24 through July 30, 2023.

II. Reopening of Comment Period

The FAA grants the commenter's request for an extension of the comment period to comment on the proposed rule. Under the guidance of Executive Order 13563, which provides that the public must be afforded a meaningful opportunity to comment with a comment period that should generally be at least 60 days, the FAA finds that an additional thirty (30) days will provide sufficient opportunity for the public to comment (i.e., a total period of 60 days). Therefore, the comment period for Notice No. 23-06 is reopened until December 1, 2023.

The FAA will not grant any additional requests to further extend the comment period for this rulemaking. Issued under authority provided by 49 U.S.C. 106(f), 44701(a)(5), and 44703(a) in Washington, DC, on or about October 26, 2023.

Brandon Roberts,
Executive Director, Office of Rulemaking.

[FR Doc. 2023-24082 Filed 10-31-23; 8:45 am]

BILLING CODE 4910-13-P